DEPARTMENT OF TRANSPORTATION

Federal Railroad Administration

[Docket Number FRA-2013-0051]

Petition for Waiver of Compliance

In accordance with Part 211 of Title 49 Code of Federal Regulations (CFR), this document provides the public notice that by a document dated May 6, 2013, the Erie Lackawanna Dining Car Preservation Society (ELDCPS) has petitioned the Federal Railroad Administration (FRA) for a waiver of compliance from certain provisions of the Federal railroad safety regulations contained at 49 CFR section 223.15, Requirements for existing passenger cars. FRA assigned the petition Docket Number FRA-2013-0051.

This petition relates to the operation of a sleeping car, “The City of Lima,” Reporting Mark RPCX 211. The petitioner is requesting permission to continue to operate the car that does not have window glazing meeting the requirements of 49 CFR 223.15. This car is interchanged with railroads operating on the general system, moved short distances over freight railroads for storage when not in use, and operated behind Amtrak passenger trains or in special trains made up of similar passenger cars. ELDCPS is a not-for-profit corporation, incorporated in the State of New Jersey since 2001.

The private passenger car fleet is a small fraction of the total passenger fleet operating in the country, and continues to have an excellent safety record, due in part to the operating characteristics and the operating environment of the cars. Operation of this private passenger car has been injury-free as related to window glazing for the past 20 years, and the car has operated in the service described in this petition since 2008.

Specifically, Car RPCX 211 was built by Pullman Standard in February 1950 and is equipped with 20 Adams & Westlake #64 sash, double-glazed, 30″ × 42″ side windows with a mixture of unmarked polycarbonate and automotive-type, windshield-grade, laminated safety glass. FRA Type II polycarbonate glazing is present in the vestibule's Dutch doors, but is badly hazed. Carbody end-door windows are unmarked polycarbonate.

ELDCPS seeks relief from the glazing requirements for operation of this passenger car for short distances over freight lines, behind Amtrak passenger trains, or in special trains made up of similar passenger cars. Typically, these cars are operated over scenic, long-distance routes through rural countryside, which are low-risk areas for window damage or breakage. The car is operated at a maximum track speed, as authorized by the railroad that is controlling the movement.

Since ELDCPS purchased RPCX 211, in 2007, FRA has not received any reports of personal injuries involving the operation of this equipment as the result of the presently installed noncompliant glazing. There have not been any acts of vandalism to this car while in storage or in operation. When not in use, this equipment is stored at a private siding on the Delaware-Lackawanna Railroad in Scranton, PA.

ELDCPS has a current and feasible emergency egress plan for this car. The plan includes four, clearly marked emergency exit windows, emergency battery lights throughout the car, and standard emergency tools in a well-marked cabinet near Bedroom A in the hallway.

A copy of the petition, as well as any written communications concerning the petition, is available for review online at www.regulations.gov and in person at the U.S. Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 26, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-16677 Filed 7-11-13; 8:45 am]

BILLING CODE 4910-06-P